DEPARTMENT OF ENERGY

Federal Energy Regulatory Commission

[Docket No. RP96-383-018]

Dominion Transmission, Inc.; Notice of Filing

January 5, 2001.

Take notice that on December 29, 2000, Dominion Transmission, Inc. (DTI) submitted tariff sheets disclosing recently negotiated rate transactions. The tariff sheets relate to future negotiated rate transactions between DTI and “Poor Operators.” DTI and the Pool Operators will enter into Service Agreements under DTI's Rate Schedule IT, to become effective January 1, 2001. Under these agreements, DTI has agreed to provide certain interruptible transportation service for the Pool Operators, for delivery at Dominion's Appalachian Aggregation Points.

DTI states that copies of its letter of transmittal and enclosures have been served upon DTI's customers and interested state commissions.

Any person desiring to be heard or to protest said filing should file a motion to intervene or a protest with the Federal Energy Regulatory Commission, 888 First Street NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http:/­/www.ferc.fed.us/efi/doorbell.htm.

David P. Boergers,
Secretary.

[FR Doc. 01-858 Filed 1-10-01; 8:45 am]

BILLING CODE 6717-01-M